DEPARTMENT OF LABOR

Employment and Training Administration

[TA-W-71,343]

Metso Minerals Industries, Inc., Including On-Site Leased Workers From Executive Staffing and Aerotek, Columbia, SC; Amended Certification Regarding Eligibility To Apply for Worker Adjustment Assistance

In accordance with Section 223 of the Trade Act of 1974, as amended (“Act”), 19 U.S.C. 2273, the Department of Labor issued a Certification of Eligibility to Apply for Worker Adjustment Assistance on October 13, 2009, applicable to workers of Metso Minerals Industries, Inc., including on-site leased workers from Executive Staffing, Columbia, South Carolina. The notice will be published soon in the Federal Register.

At the request of the State Agency, the Department reviewed the certification for workers of the subject firm. The workers are engaged in the production of mining machinery.

The company reports that on-site leased workers from Aerotek were employed on-site at the Columbia, South Carolina location of Metso Minerals Industries, Inc. The Department has determined that these workers were sufficiently under the control of the subject firm to be considered leased workers.

Based on these findings, the Department is amending this certification to include workers leased from Aerotek working on-site at the Columbia, South Carolina location of Metso Minerals Industries, Inc.

The amended notice applicable to TA-W-71,343 is hereby issued as follows:

All workers of Metso Minerals Industries, Inc., including on-site leased workers from Executive Staffing and Aerotek, Columbia, South Carolina, who became totally or partially separated from employment on or after June 22, 2008, through October 13, 2011, and all workers in the group threatened with total or partial separation from employment on date of certification through two years from the date of certification, are eligible to apply for adjustment assistance under Chapter 2 of Title II of the Trade Act of 1974, as amended.

Signed at Washington, DC, this 8th day of December 2009.
Michael W. Jaffe,
Certifying Officer, Division of Trade Adjustment Assistance.

[FR Doc. E9-30254 Filed 12-18-09; 8:45 am]

BILLING CODE 4510-FN-P